DEPARTMENT OF ENERGY

Federal Energy Regulatory Commission

Notice of Transfer of Licenses and Solicitation of Comments, Motions to Intervene, and Protests

June 14, 2002.

Take notice that the following hydroelectric application has been filed with the Commission and is available for public inspection:

a. Application Type: Transfer of Licenses.

b. Project Nos.: 2300-029, 2311-038, 2326-025, 2327-026, 2422-029, and 2423-015.

c. Date Filed: June 3, 2002.

d. Applicants: American Tissue-New Hampshire Electric, Inc. (Transferor) and GNE, LLC (Transferee).

e. Name of Projects: Shelburne, Gorham, Cross Power, Cascade, Sawmill, and Riverside.

f. Location: All of the projects are located on the Androscoggin River, in Coos County, New Hampshire. The projects do not utilize federal or tribal lands.

g. Filed Pursuant to: Federal Power Act, 16 U.S.C. 791(a)-825(r)).

h. Applicants Contacts: Michael J. Golde, Kugman Associates, Inc., 1 Bank One Plaza, 21 South Clark Street, Suite 3300, Chicago, IL 60603, (312) 251-5550 (for American-Tissue); Amy S. Koch and Ilia Levitine, Cameron McKenna LLP, 2175 K Street, NW., Fifth Floor, Washington, DC 20037, (202) 466-0060, Jeff Martin, GNE, LLC, 1024 Central Street, Millinocket, ME 04462, (207) 723-4341 (for GNE).

i. FERC Contact: Regina Saizan, (202) 219-2673.

j. Deadline for filing comments and or motions: July 17, 2002.

All documents (original and eight copies) should be filed with: Magalie R. Salas, Secretary, Federal Energy Regulatory Commission, 888 First Street, NE, Washington, DC 20426. Comments, protests, and interventions may be filed electronically via the internet in lieu of paper. See, 18 CFR 385.2001(a)(1)(iii) and the instructions on the Commission's web site under the “e-Filing” link.

Please include the Project Number (2300-029, et al.) on any comments or motions filed.

k. Description of Transfer: On May 9, 2002, the U.S. Bankruptcy Court for the District of Delaware issued an order approving the sale of certain American Tissue Assets, including the projects, to Brascan Corporation or an assignee, which is GNE. GNE acquired the projects pursuant to a bankruptcy sale on May 31, 2002. The applicants seek Commission approval to transfer the licenses for the projects from American Tissue to GNE.

l. Location of the Application: Copies of this filing are on file with the Commission and are available for public inspection. This filing may be viewed on the Commission's web site at http://www/ferc.gov using the “RIMS” link, select “Docket #” and follow the instructions ((202) 208-2222 for assistance). A copy is also available for inspection and reproduction at the addresses in item h above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

Magalie R. Salas,
Secretary.

[FR Doc. 02-15511 Filed 6-19-02; 8:45 am]

BILLING CODE 6717-01-P